DEPARTMENT OF TRANSPORTATION

National Highway Traffic Safety Administration

[Docket No. NHTSA-2014-0011]

Report, Forms and Record Keeping Requirement

AGENCY: National Highway Traffic Safety Administration, U.S. Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on March 14, 2014.

DATES: Comments must be submitted on or before June 26, 2014.

FOR FURTHER INFORMATION CONTACT: Wayne McKenzie, Office of Crash Avoidance Standards (NVS-121), National Highway Traffic Safety Administration, West Building W43-462, 1200 New Jersey Avenue SE., Washington, DC 20590. Mr. McKenzie can be reached at (202) 366-1729.

SUPPLEMENTARY INFORMATION: Title: 49 CFR Part 564, Replaceable Light Source Dimensional Information Collection.

OMB Control Number: 2157-0563.

Type of Request: Extension of a currently approved collection.

Abstract: The information to be collected is in response to 49 CFR part 564, “Replaceable Light Source Dimensional Information.” Persons desiring to use newly designed replaceable headlamp light sources are required to submit interchangeability and performance specifications to the agency. After a short agency review to assure completeness, the information is placed in a public docket for use by any person who would like to manufacture headlamp light sources for highway motor vehicles. In Federal Motor Vehicle Safety Standard No. 108, Lamps, reflective devices and associated equipment, “Part 564 submissions” are referenced as being the source of information regarding the performance and interchangeability information for legal headlamp light sources, whether original equipment or replacement equipment. The submitted information about headlamp light sources becomes the basis for certification of compliance with safety standards. Comments from two major lighting suppliers have been in favor of the proposed information collection in regards to headlamp light sources.

Affected Public: Businesses or other for profit organizations.

Estimated Number of Respondents: 7.

Estimated Number of Responses: 7.

Annual Estimated Total Annual Burden Hours: 28 hours.

Frequency of Collection:

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Claude H. Harris,
Acting Associate Administrator for Rulemaking.

[FR Doc. 2014-12131 Filed 5-23-14; 8:45 am]

BILLING CODE P